DEPARTMENT OF COMMERCE

National Oceanic and Atmospheric Administration

[RTID 0648-XD245]

Western Pacific Fishery Management Council; Public Meeting; Correction

AGENCY: National Marine Fisheries Service (NMFS), National Oceanic and Atmospheric Administration (NOAA), Commerce.

ACTION: Notice of a date and agenda change of a public meeting.

SUMMARY: The Western Pacific Fishery Management Council will hold a meeting of its Hawaii Archipelago Fishery Ecosystem Plan (FEP) Advisory Panel (AP) to discuss and make recommendations on fishery management issues in the Western Pacific Region.

DATES: The meeting will be held Tuesday, August 29, 2023, from 9 a.m. to 4 p.m.

ADDRESSES: The Hawaii Archipelago Fishery Ecosystem Plan (FEP) Advisory Panel (AP) meeting will be held in a hybrid format with in-person and remote participation (Webex) options available for the members and the public. In-person attendance for Hawaii Archipelago FEP AP members will be hosted at Council Office, 1164 Bishop St. Suite 1400, Honolulu HI 96813. Instructions for connecting to the web conference and providing oral public comments will be posted on the Council website at www.wpcouncil.org. For assistance with the web conference connection, contact the Council office at (808) 522-8220.

FOR FURTHER INFORMATION CONTACT: Contact Kitty M. Simonds, Executive Director, Western Pacific Fishery Management Council; phone: (808) 522-8220.

SUPPLEMENTARY INFORMATION: The original notice published in the Federal Register on August 11, 2023 (88 FR 54572). This notice changes the date and agenda of the Hawaii Archipelago FEP AP meeting. All other information previously published remains unchanged.

Revised Schedule and Agenda for the Hawaii Archipelago FEP AP Meeting

Tuesday, August 29, 2023, 9 a.m.-4 p.m. (HST)

1. Welcome and Introductions

2. Review of the Last AP Recommendations and Meeting

3. Hawaii AP Project and Activities Update

4. Feedback from the Fleet

A. Second Quarter Hawaii Fishermen Observations

B. Hawaii AP Fisheries Issues and Priorities

5. Hawaii Fishery Issues and Activities

6. Pacific Remote Island Areas Sanctuary Designation Update

7. Hawaii Initiatives

A. Main Hawaiian Islands Uku Ecosystem Based Fisheries Management Project

B. Division of Aquatic Resource's Rulemaking on Kona Crab

8. Lokahi Fishing App Feature for Fisher Engagement

9. Administrative Issues

A. National Seafood Strategy

B. Inflation Reduction Act Funding Discussion

10. Council Program Planning 2025-2029

11. Other Business

12. Public Comment

Discussion and Recommendations

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: August 15, 2023.
Rey Israel Marquez,
Acting Deputy Director, Office of Sustainable Fisheries, National Marine Fisheries Service.

[FR Doc. 2023-17817 Filed 8-17-23; 8:45 am]

BILLING CODE 3510-22-P